DEPARTMENT OF THE INTERIOR

National Park Service

National Register of Historic Places;Notification of Pending Nominations and Related Actions

Nominations for the following properties being considered for listing or related actions in the National Register were received by the National Park Service before October 6, 2007. Pursuant to § 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St. NW., 8th Floor, Washington, DC 20005; or by fax, 202-371-6447. Written or faxed comments should be submitted by November 6, 2007.

J. Paul Loether,
Chief, National Register of Historic Places/ National Historic Landmarks Program.

ARIZONA

Maricopa County

University Park Historic District, Bounded by 13th St., Forest Ave, alley between Apache Blvd. & 14th St., Mc Allister Ave., Union Pacific RR & Mill Ave., Tempe, 07001174

ARKANSAS

Benton County

Van Winkle's Mill Site, 21392 E AR 12, Rogers, 07001175

CALIFORNIA

Alameda County

South Berkeley Community Church, 1802 Fairview St., Berkeley, 07001176

San Diego County, San Diego Armed Services YMCA, 500 W Broadway, San Diego, 07001177

DISTRICT OF COLUMBIA

District of Columbia

Montrose Park, R St. & Lovers' Ln. (Res. 324), Washington, 07001178

MISSISSIPPI

Bolivar County

Cleveland Founders Historic District, Roughly bounded by Victoria Ave., Sunflower Rd., Bolivar Ave., S Bayou Ave., & Avery St., Cleveland, 07001179

Hinds County

N & W Overall Company Building, 736 S President St., Jackson, 07001180

Lafayette County

North Lamar Historic District, Roughly bounded by N 11th, Price, N 16th & Van Buren Sts., Oxford, 07001181

Young, George Wright, House, 100 Cty. Rd. 233, Oxford, 07001182

Pike County

Spinks Plantation, ½ mi. N of jct. of Muddy Springs & Irene Rds., Magnolia, 07001183

Tishomingo County

Iuka Battlefield, N of MS 72, W of MS 25, Iuka, 07001184

MISSOURI

Greene County

Greene County Courthouse, 940 Boonville Ave., Springfield, 07001185

Jackson County

South Hyde Park Historic District, Bounded by E 39th St., Gillham Pkwy., Brush Creek Blvd. & Troost Ave., Kansas City, 07001186

NEBRASKA

Cuming County

Stigge, LaVerne and Helen, Farmstead, 785 4th Rd., Howells, 07001187

Douglas County

Peerless Motor Company, 2562—2564 Harney St., Omaha, 07001188

Stabrie Grocery, 501 N 13th St., Omaha, 07001189

Gage County

First Commercial Bank, 301 Main St., Odell, 07001190

NEW YORK

Erie County

Buffalo Harbor South Entrance Light (Light Stations of the United States MPS), Stony Pt. end of Buffalo Harbor S breakwater, Lackawanna, 07001191

Kings County

Evergreens Cemetery, 1629 Bushwick Ave., Brooklyn, 07001192

New York County

House at 49 East 80th Street, 49 E 80th St., New York, 07001193

PUERTO RICO

Rincon Municipality

Boiling Nuclear Superheater (BONUS) Reactor Facility, Punta Higuero Sector, PR 413, Rincon, 07001194

San Juan Municipality

Rivera, Luis Munoz, Park, Stop 8 Ponce de Leon Ave., San Juan, 07001195

TENNESSEE

Loudon County

Dunbar Public School, 113 Steekee St., Loudon, 07001196

WISCONSIN

Eau Claire County Eau Claire Masonic Temple, 317—319 S Barstow & 306 Main Sts., Eau Claire, 07001197

[FR Doc. E7-20685 Filed 10-19-07; 8:45 am]

BILLING CODE 4310-70-P